DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 27, 2001.

Interested persons are invited to submit written comments regarding the subject matter of the investigations to the Director, Division of Trade Adjustment Assistance, at the address shown below, not later than August 22, 2001.

The petitions filed in this case are available for inspection at the Office of the Director, Division of Trade Adjustment Assistance, Employment and Training Administration, U.S. Department of Labor, Room C-5311, 200 Constitution Avenue, NW., Washington, DC 20210.

Signed at Washington, DC this 18th day of June, 2001.
Edward A. Tomchick,
Director, Division of Trade Adjustment Assistance.

Appendix
[Petitions Instituted on 06/18/2001]
TA-W | Subject firm (petitioners) | Location | Date of petition | Product(s)
39,423 | Outboard Marine Corp. (Wkrs) | Delavan, WI | 05/15/2001 | Outboard Motors
39,424 | Outboard Marine (Wkrs) | Stuart, FL | 05/23/2001 | Marine Engines
39,425 | Hoover Precision (IAMAW) | Washington, IN | 05/24/2001 | Carbon Steel Balls
39,426 | Donna Lynn Fashions, Inc. (UNITE) | Bronx, NY | 05/24/2001 | Bridesmaid Dresses and Ballroom Gowns
39,427 | Lori Lynn Fashions, Inc. (UNITE) | Bronx, NY | 05/14/2001 | Bridesmaid Dresses and Ballroom Gowns
39,428 | Giordano Fashions, Ltd. (UNITE) | Woodside, NY | 05/24/2001 | Bridesmaid Dresses and Ballroom Gowns
39,429 | Mele Manufacturing (Wkrs) | Utica, NY | 05/27/2001 | Jewelry Boxes
39,430 | Jacmel Jewelry (Co.) | Long Island City, NY | 05/21/2001 | Jewelry
39,431 | Reichard Industries (Wkrs) | Columbiana, OH | 05/29/2001 | Steel Mill Equipment
39,432 | Columbus Industries (Wkrs) | Ashville, OH | 05/03/2001 | Range Hood Filters
39,433 | Penn Companies (The) (Co.) | St. Peters, MO | 05/29/2001 | Embroidered Emblems
39,434 | Kentucky Electric Steel (Co.) | Ashland, KY | 05/17/2001 | Steel Bar Flats
39,435 | Mandell Industries (UNITE) | Oceanside, NY | 05/23/2001 | Ladies' Undergarments
39,436 | Wiegand Appliance Div. (Wkrs) | Vernon, AL | 06/01/2001 | Electric Heating Elements
39,437 | Lucent Technologies Agere (IBEW) | Reading, PA | 06/01/2001 | Optoelectronic Devices
39,438 | United Viel Dyeing (UNITE) | Jersey City, NJ | 06/01/2001 | Lace Fabric, Dyeing & Finishing
39,439 | Sunoco Lube Service (Wkrs) | Tulsa, OK | 05/23/2001 | Crude Oil Products
39,440 | Triple-O (Co.) | Roseburg, OR | 05/26/2001 | Raw Logs
39,441 | Mrs. Alison's Cookie (BU) | St. Louis, MO | 05/25/2001 | Cookies
39,442 | Sohnen Enterprises (Wkrs) | Santa Fee Spring, CA | 05/25/2001 | Electrical Appliances
39,443 | Kurdziel Industrial (Wkrs) | Wauseon, OH | 05/13/2001 | Gray Iron Castings
39,444 | Kennecott Utah Copper (USWA) | Bingham Canyon, UT | 06/01/2001 | Copper Cathodes
39,445 | Thomson Multimedia (Co.) | Dunmore, PA | 05/31/2001 | Color TV Picture Tubes
39,446 | Morgan Machine Co. (USWA) | Fulton, MO | 06/01/2001 | Machine Fabricated Products
39,447 | Quantum Corporation (Wkrs) | Milpitas, CA | 05/30/2001 | Hard Disk Drives
39,448 | NewBold Corporation (Co.) | Rocky Mount, VA | 05/29/2001 | Manual Retail Data Imprinters
39,449 | Agere Systems (IBEW) | Allentown , PA | 06/05/2001 | Integrated Circuits
39,450 | Northwestern Steel & Wire (Co.) | Sterling, IL | 05/30/2001 | Steel Rod, Structural Steel Beams, Flats
39,451 | Phelps Dodge Morenci (Co.) | Morenci, AZ | 06/04/2001 | Copper Open Pit, Mine
39,452 | Athens Furniture (IUE) | Athens, TN | 06/01/2001 | Case Goods and Offacional Furniture
39,453 | Arnold Engineering (The) (USWA) | Sevierville, TN | 05/30/2001 | Ferrite Permanent Magnets
39,454 | Coe Manufacturing (USWA) | Painesville, OH | 05/28/2001 | Wood and Rubber Press
39,455 | Rivoli Mills (Co.) | Jasper, TN | 05/29/2001 | Knit Shirts
39,456 | Huck Fasteners (Wkrs) | Altoona, PA | 05/25/2001 | Cold Headed, Threaded Fasteners
39,457 | Agilent Technologies (Wkrs) | Fort Collins, CO | 05/30/2001 | Semiconductors
39,458 | MacDonald Footwear (Wkrs) | Skowhegan, ME | 06/01/2001 | Hand Sewn Shirts
39,459 | Lane Company (The) (Co.) | Altavista, VA | 06/06/2001 | Wood Furniture
39,460 | Johnson Controls (Wkrs) | Taylor, MI | 06/07/2001 | Seating for Jeep Grand Cherokee's
39,461 | D'Clase Cutting Services (Wkrs) | Medley, FL | 05/22/2001 | Garment Cutting
39,462 | Monticello Manufacturing (Co.) | Monticello, KY | 06/01/2001 | Shirts and Blouses
39,463 | ABB Power T and D (Wkrs) | Jefferson City, MO | 05/31/2001 | Distribution Transformers
39,464 | Corning Frequency Control (Wkrs) | Mt. Holly Spgs. PA | 04/16/2001 | Crystal Oscillators
39,465 | Baltic Dyeing & Finishing (UNITE) | Passaic, NJ | 06/01/2001 | Textile Fabrics—Dyeing & Finishing
39,466 | Imperial Home Decor Group (Wkrs) | Knoxville, TX | 05/29/2001 | Wallpaper
39,467 | Erie County Technical (Wkrs) | Erie, PA | 05/31/2001 | Technical Training
39,468 | Veco Alaska (Co.) | Anchorage, AK | 06/05/2001 | Services to Oil Producers
39.469 | Domco Tarkettt (Wkrs) | Whitehall, PA | 06/04/2001 | Sheet Vinyl Flooring
39,470 | Clestra Hauserman (Co.) | Solon, OH | 06/05/2001 | Walls & Other Architectural Products
39,471 | Besser Company (IBBU) | Alpena, MI | 05/29/2001 | Concrete Masonry Products
39,472 | Garan Manufacturing Corp. (Wkrs) | Clinton, KY | 06/04/2001 | Ladies Knit Shirts
39,473 | Boston Scientific (Co.) | Watertown, MA | 06/07/2001 | Medical Devices
39,474 | Meridian Beartrack (Co.) | Salmon, ID | 05/22/2001 | Dore Metal—Gold and Silver

[FR Doc. 01-20473 Filed 8-14-01; 8:45 am]

BILLING CODE 4510-30-M